COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes products and a service from the Procurement List previously furnished by such agencies.

DATES: Effective Date: 3/24/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 11/29/2013 (78 FR 71582-71583), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 USC 8501-8506) in connection with the products proposed for addition to the Procurement List.

End of Certification

Accordingly, the following products are added to the Procurement List:

Products

Jackets, Intermediate Weather Outer Layer (IWOL), Layer 6, Army, (FREE), OCP

NSN: 8415-01-583-9470—XSS

NSN: 8415-01-583-9471—XSR

NSN: 8415-01-583-9474—XSL

NSN: 8415-01-583-9479—SS

NSN: 8415-01-583-9480—SR

NSN: 8415-01-583-9483—SL

NSN: 8415-01-583-9485—MS

NSN: 8415-01-583-9488—MR

NSN: 8415-01-583-9445—ML

NSN: 8415-01-583-9447—LS

NSN: 8415-01-583-9449—LR

NSN: 8415-01-583-9450—LL

NSN: 8415-01-583-9451—XLS

NSN: 8415-01-583-9453—XLR

NSN: 8415-01-583-9454—XLL

NSN: 8415-01-583-9455—XXLS

NSN: 8415-01-583-9456—XXLR

NSN: 8415-01-583-9458—XXLL

NPA: Winston-Salem Industries for the Blind, Inc., Winston-Salem, NC

Contracting Activity: Army Contracting Command—Aberdeen Proving Ground, Natick Contracting Division, Natick MA

Coverage: C-List for 100% of the requirement of the Department of the Army, as aggregated by the Army Contracting Command—Aberdeen Proving Ground, Natick Contracting Division, Natick MA.

Trousers, Intermediate Weather Outer Layer (IWOL), Layer 6, Army, (FREE), OCP

NSN: 8415-01-584-1635—XSS

NSN: 8415-01-584-1637—XSR

NSN: 8415-01-584-1639—XSL

NSN: 8415-01-584-1640—SS

NSN: 8415-01-584-1641—SR

NSN: 8415-01-584-1642—SL

NSN: 8415-01-584-1643—MS

NSN: 8415-01-584-1644—MR

NSN: 8415-01-584-1645—ML

NSN: 8415-01-584-1648—LS

NSN: 8415-01-584-1649—LR

NSN: 8415-01-584-1654—LL

NSN: 8415-01-584-1655—XLS

NSN: 8415-01-584-1656—XLR

NSN: 8415-01-584-1663—XLL

NSN: 8415-01-584-1665—XXLS

NSN: 8415-01-584-1672—XXLR

NSN: 8415-01-584-1674—XXLL

NPA: San Antonio Lighthouse for the Blind, San Antonio, TX

Contracting Activity: Army Contracting Command—Aberdeen Proving Ground, Natick Contracting Division, Natick MA

Coverage: C-List for 100% of the requirement of the Department of the Army, as aggregated by the Army Contracting Command—Aberdeen Proving Ground, Natick Contracting Division, Natick MA.

Deletions

On 1/10/2014 (79 FR 1835-1836), the Committee for Purchase From People Who Are Blind or Severely Disabled published notice of proposed deletions from the Procurement List.

After consideration of the relevant matter presented, the Committee has determined that the products and service listed below are no longer suitable for procurement by the Federal Government under 41 USC 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

Folder, File, Paperboard, Heavy Duty, 1/3 Cut Tab, Clear Sleeve, Kraft, Letter

NSN: 7530-00-281-5907

NPA: L.C. Industries for the Blind, Inc., Durham, NC

Contracting Activity: General Services Administration, New York, NY

DVD Label Refill

NSN: 7530-01-554-7679

NPA: North Central Sight Services, Inc., Williamsport, PA

Contracting Activity: General Services Administration, New York, NY

Service

Service Type/Location: Janitorial/Custodial Service, Social Security Administration Building, 50 North Third Street, Chambersburg, PA.

NPA: Unknown.

Contracting Activity: General Services Administration, FPDS Agency Coordinator, Washington, DC

Barry S. Lineback,
Director, Business Operations.

[FR Doc. 2014-03680 Filed 2-20-14; 8:45 am]

BILLING CODE 6353-01-P